ENVIRONMENTAL PROTECTION AGENCY

[FRL-6909-5]

Proposed Administrative Cost Recovery Agreements under CERCLA Section 122(h) for Recovery of Past Costs at the Barceloneta Landfill Superfund Site, Barceloneta, Puerto Rico

AGENCY: Environmental Protection Agency (EPA).

ACTION: Notice; request for public comment.

SUMMARY: In accordance with section 122(i) of the Comprehensive Environmental Response, Compensation, and Liability Act of 1980, as amended (“CERCLA”), 42 U.S.C. 9622(i), notice is hereby given of two (2) proposed administrative settlements, entered into pursuant to section 122(h) of CERCLA, 42 U.S.C. 9622(h), for recovery of past response costs concerning the Barceloneta Landfill Superfund Site (“Site”) located in Barceloneta, Puerto Rico. These settlements with the U.S. Environmental Protection Agency (“EPA” or the “Agency”) are each entered into with one party, one with Bristol-Myers Barceloneta, Inc. (“BMS”), and the second with Nycomed Puerto Rico, Inc. (“NYCOMED”). The settlements require BMS and NYCOMED to pay $225,000.00 and $125,000.00, respectively, to EPA, in reimbursement of past response costs incurred with respect to the Site. The settlements include a covenant not to sue the settling parties pursuant to section 107(a) of CERCLA, 42 U.S.C. 9607(a), for all costs that EPA or the U.S. Department of Justice, on behalf of EPA, paid at or in connection with the Site through the date of execution of the proposed settlements by EPA, including interest on that amount. For thirty (30) days following the date of publication of this notice, EPA will receive written comments relating to the settlements. The Agency will consider all comments received and may modify or withdraw its consent to the settlements if comments received disclose facts or considerations that indicate that the proposed settlements are inappropriate, improper, or inadequate. The Agency's response to any comments received will be available for public inspection at the EPA, Region II, 290 Broadway, New York, New York 10007-1866.

DATES: Comments must be submitted on or before December 29, 2000.

ADDRESSES: The proposed settlements are available for public inspection at the United States Environmental Protection Agency, 290 Broadway, New York, New York 10007-1866. A copy of either of the proposed settlements may be obtained from James F. Doyle, Assistant Regional Counsel, New York/Caribbean Superfund Branch, Office of Regional Counsel, 17th Floor, 290 Broadway, New York, New York 10007-1866. Comments should reference the Barceloneta Landfill Superfund Site located in Barceloneta, Puerto Rico. Requests for a copy of the BMS agreement should reference Docket No. CERCLA-02-2000-2012, and requests for a copy of the NYCOMED agreement should reference Docket No. CERCLA-02-2000-2011. Any comments or requests should be addressed to James F. Doyle, Assistant Regional Counsel, Office of Regional Counsel, U.S. Environmental Protection Agency, 290 Broadway, 17th floor, New York, New York 10007-1866.

FOR FURTHER INFORMATION CONTACT: James F. Doyle, Assistant Regional Counsel, New York/Caribbean Superfund Branch, Office of Regional Counsel, U.S. Environmental Protection Agency, 17th Floor, 290 Broadway, New York, New York 10007-1866. Telephone: 212-637-3165.

Dated: November 15, 2000.
William J. Muszynski,
Acting Regional Administrator, Region 2.

[FR Doc. 00-30424 Filed 11-28-00; 8:45 am]

BILLING CODE 6560-50-P